DEPARTMENT OF VETERANS AFFAIRS

Notice of Intent To Grant an Exclusive License

AGENCY: Department of Veterans Affairs.

ACTION: Notice.

SUMMARY: Notice is hereby given that the Department of Veterans Affairs (VA), Office of Research and Development, intends to grant to algorithmRx, LLC, 7400 Beaufont Springs Drive—Suite 300, North Chesterfield, Virginia 23225, an exclusive license to practice the following: U.S. Patent Application Serial No. 12/928,894 (Methods for Predicting the Response to Statins) filed December 21, 2010, and published on October 6, 2011, under Publication No. US-2011-0245283.

DATES: Comments must be received by VA on or before May 30, 2012.

ADDRESSES: Written comments may be submitted through www.regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m., Monday through Friday (except holidays). Please call (202) 461-4902 for an appointment. This is not a toll free number. In addition, during the comment period, comments may be viewed online through the Federal Docket Management System at www.regulations.gov.

FOR FURTHER INFORMATION CONTACT: Dr. Lee A. Sylvers, Technology Transfer Program, Office of Research and Development (10P9TT), Department of Veterans Affairs, 810 Vermont Avenue NW., Washington, DC 20420, (202) 443-5646. This is not a toll free number. Copies of the published patent applications may be obtained from the U.S. Patent and Trademark Office at www.uspto.gov.

SUPPLEMENTARY INFORMATION: The interests of the Federal Government and the public will be best served if this license is awarded to algorithmRx, LLC because the invention can lead to a more efficacious use of statins. The prospective exclusive license will be royalty-bearing and will comply with the terms and conditions of 35 U.S.C. 209 and 37 CFR 404.7. The prospective exclusive license may be granted unless, within 15 days from the date of this published Notice, VA's Office of Research and Development receives written evidence and argument which establishes that the grant of the license would not be consistent with the requirements of 35 U.S.C. 209 and 37 CFR 404.7.

Approved: May 9, 2012.
John R. Gingrich,
Chief of Staff, Department of Veterans Affairs.

[FR Doc. 2012-11707 Filed 5-14-12; 8:45 am]

BILLING CODE 8320-01-P